FEDERAL COMMUNICATIONS COMMISSION

Sunshine Act Meeting Change in Date of Open Commission Meeting to Friday, August 5, 2005

August 3, 2005.

The Federal Communications Commission previously announced on July 28, 2005, its intention to hold an Open Meeting on Thursday, August 4, 2005, commencing at 9:30 a.m. in Room TW-C305, at 445 12th Street, SW., Washington, DC.

The date has been changed to Friday, August 5, 2005.

The prompt and orderly conduct of Commission business required this change and no earlier announcement was possible.

Additional information concerning this meeting may be obtained from Audrey Spivack or David Fiske, Office of Media Relations, (202) 418-0500; TTY 1-888-835-5322.

Federal Communications Commission.
Marlene H. Dortch,
Secretary.

[FR Doc. 05-15809 Filed 8-5-05; 12:45 pm]

BILLING CODE 6712-01-P